ENVIRONMENTAL PROTECTION AGENCY

[FRL-7074-7]

Agency Information Collection Activities: Submission for OMB Review; Comment Request; National Pollutant Discharge Elimination System (NPDES) and Sewage Sludge Monitoring Reports; OMB Control No. 2040-0004; EPA ICR No. 0229.15

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Pollutant Discharge Elimination System (NPDES) and Sewage Sludge Monitoring Reports; OMB Control No. 2040-0004; EPA ICR No.0229.15; expiring September 30, 2001. The ICR describes the nature of the information collection and its expected burden and cost; where appropriate, it includes the actual data collection instrument.

DATES: Comments must be submitted on or before November 5, 2001.

ADDRESSES: Send comments, referencing EPA ICR No. 0229.15 and OMB Control No. 2040-0004 to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer by telephone at (202) 260-2740, by e-mail at Farmer.sandy@epa.gov, or download off the Internet at http://www.epa.gov/icr and refer to EPA ICR No. 0229.15. For technical questions about the ICR contact Jack Faulk at (202) 564-0768 in EPA's Office of Wastewater Management.

SUPPLEMENTARY INFORMATION: Title: National Pollutant Discharge Elimination System (NPDES) and Sewage Sludge Monitoring Reports; (OMB Control No. 2040-0004; EPA ICR No. 0229.15) expiring 09/30/01. This is a request for extension of a currently approved collection.

Abstract: This ICR estimates the current monitoring, recordkeeping and costs associated with submitting and reviewing Discharge Monitoring Reports (DMRs), sewage sludge monitoring reports, and other monitoring reports under the Environmental Protection Agency's (EPA) NPDES program. The NPDES program regulations, codified at 40 CFR parts 122 through 125, require permitted municipal and non-municipal point source discharges to collect, analyze, and submit data on their wastewater discharges. Under these regulations, the permittee is required to collect and analyze wastewater samples and perform other types of discharge monitoring and report the results to the permitting authority (EPA or an authorized NPDES State). Sample monitoring, analysis, and reporting frequencies vary by permit, but for the most part, must be performed at least annually for all permitted discharges. Upon renewal of this ICR, the permitting authority will continue to require NPDES and sewage sludge facilities to report pollutant discharge monitoring data. The permitting authority will use the data from these forms to assess permittee compliance, modify/add new permit requirements, and revise effluent guidelines. The monitoring data required of NPDES and sewage sludge facilities represents the minimum 2 information necessary to achieve the Agency's goals and satisfy regulatory standards. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 8, 2001 (66 FR 9574); two comments were received.

Burden Statement: The annual public reporting and recordkeeping burden for this collection of information is estimated to average 24.9 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: NPDES permittees, including publicly owned treatment works, privately owned treatment works, industrial facilities, and storm water permittees, and sewage sludge handlers and domestic septage haulers.

Estimated Number of Respondents: 86,135.

Frequency of Response: varied, but for the most part at least annually.

Estimated Total Annual Hour Burden: 15,041,011.

Estimated Total Annualized Capital, O&M Cost Burden: $0.

Send comments on the Agency's need for this information, the accuracy of the provided burden estimates, and any suggested methods for minimizing respondent burden, including through the use of automated collection techniques to the addresses listed above. Please refer to EPA ICR No. 0229.15 and OMB Control No. 2040-0004 in any correspondence.

Dated: September 26, 2001.
Oscar Morales,
Director, Collection Strategies Division.

[FR Doc. 01-25011 Filed 10-4-01; 8:45 am]

BILLING CODE 6560-50-P